DEPARTMENT OF THE INTERIOR

Bureau of Land Management

[LLNM006200 L99110000.EK0000 XXX L4053RV; OMB Control Number 1004-0179]

Agency Information Collection Activities; Submission to the Office of Management and Budget for Review and Approval; Helium Contracts

AGENCY: Bureau of Land Management, Interior.

ACTION: Notice of information collection; request for comment.

SUMMARY: In accordance with the Paperwork Reduction Act of 1995, the Bureau of Land Management (BLM) is proposing to renew an information collection.

DATES: Interested persons are invited to submit comments on or before September 27, 2018.

ADDRESSES: Send written comments on this information collection request (ICR) to the Office of Management and Budget's Desk Officer for the Department of the Interior by email at OIRA_Submission@omb.eop.gov; or via facsimile to (202) 395-5806. Please provide a copy of your comments to the BLM at U.S. Department of the Interior, Bureau of Land Management, 1849 C Street NW, Room 2134LM, Washington, DC 20240, Attention: Jean Sonneman; or by email to jesonnem@blm.gov. Please reference OMB Control Number 1004-0179 in the subject line of your comments.

FOR FURTHER INFORMATION CONTACT: To request additional information about this ICR, contact Samuel R.M. Burton by email at sburton@blm.gov, or by telephone at 806-356-1002. You may also view the ICR at http://www.reginfo.gov/public/do/PRAMain.

SUPPLEMENTARY INFORMATION: In accordance with the Paperwork Reduction Act of 1995, the BLM provides the general public and other Federal agencies with an opportunity to comment on new, proposed, revised, and continuing collections of information. This helps us assess the impact of our information collection requirements and minimize the public's reporting burden. It also helps the public understand our information collection requirements and provide the requested data in the desired format. A Federal Register notice with a 60-day public comment period was published on March 13, 2018 (83 FR 10872). No comments were received.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This control number authorizes the BLM to collect information that enables in-kind sales of helium in accordance with the Helium Stewardship Act (50 U.S.C. 167-167q) and 43 CFR part 3195.

Title of Collection: Helium Contracts.

OMB Control Number: 1004-0179.

Form Numbers: 3195-1, 3195-2, 3195-3, and 3195-4.

Type of Review: Extension of a currently approved collection.

Respondents/Affected Public: Private helium merchants that sell a major helium requirement (i.e., an amount of refined helium greater than 200,000 standard cubic feet of refined gaseous helium or 7,510 liters of liquid helium) to a Federal agency or to private helium purchasers for use in Federal Government contracts.

Total Estimated Number of Annual Respondents: 22.

Total Estimated Number of Annual Responses: 60.

Estimated Completion Time per Response: 4 hours.

Total Estimated Number of Annual Burden Hours: 240.

Respondent's Obligation: Required to obtain or retain a benefit.

Frequency of Collection:

• Quarterly for the Refined Helium Deliveries Detail;

• Annually for the Calculation of Excess Refining Capacity and Refiners' Annual Tolling Report; and

• On occasion for the Refiners' Tolling Occurrence Report.

Total Estimated Annual Nonhour Burden Cost: None.

An agency may not conduct or sponsor and a person is not required to respond to a collection of information unless it displays a currently valid OMB control number. The authority for this action is the Paperwork Reduction Act of 1995 (44 U.S.C. 3501 et seq.).

Jean Sonneman,
Information Collection Clearance Officer, Bureau of Land Management.

[FR Doc. 2018-18620 Filed 8-27-18; 8:45 am]

BILLING CODE 4310-FB-P